DEPARTMENT OF TRANSPORTATION

Federal Motor Carrier Safety Administration

[Docket No. FMCSA-2010-0413]

Qualification of Drivers; Exemption Applications; Vision

AGENCY: Federal Motor Carrier Safety Administration (FMCSA), DOT.

ACTION: Notice of Applications for exemptions; request for comments.

SUMMARY: FMCSA announces receipt of applications from 16 individuals for exemption from the vision requirement in the Federal Motor Carrier Safety Regulations. If granted, the exemptions would enable these individuals to qualify as drivers of commercial motor vehicles (CMVs) in interstate commerce without meeting the Federal vision standard.

DATES: Comments must be received on or before February 9, 2011.

ADDRESSES: You may submit comments bearing the Federal Docket Management System (FDMS) Docket No. FMCSA-2010-0413 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 16 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Michael L. Ballantyne

Mr. Ballantyne, age 55, has had refractive amblyopia in his right eye since birth. The best corrected visual acuity in his right eye is 20/200 and in his left eye, 20/20. Following an examination in 2010, his optometrist noted, “In my medical opinion has sufficient vision to operate commercial vehicle.” Mr. Ballantyne reported that he has driven straight trucks for 30 years, accumulating 750,000 miles. He holds a Class B Commercial Driver's License (CDL) from Missouri. His driving record for the last 3 years shows no crashes and no convictions for moving violations in a CMV.

Terry Brown

Mr. Brown, 47, has had amblyopia in his left eye due to an injury sustained in 1996. The best corrected visual acuity in his right eye is 20/20 and in his left eye, 20/400. Following an examination in 2010, his optometrist noted, “The vision is more than adequate in his right eye to perform his duties as a commercial truck driver.” Mr. Brown reported that he has driven straight trucks for 2 years, accumulating 20,000 miles and tractor-trailer combinations for 20 years accumulating 1.4 million miles. He holds a Class D operator's license from South Carolina. His driving record for the last 3 years shows no crashes and no convictions for moving violations in a CMV.

Delbert M. Carson

Mr. Carson, 65, has had histoplasmosis in his right eye since birth. The best corrected visual acuity in his right eye is 20/800 and in his left eye, 20/25. Following an examination in 2010, his optometrist noted, “In my medical opinion, Mr. Delbert Carson has sufficient vision to perform the driving tasks required to operate a commercial vehicle.” Mr. Carson reported that he has driven tractor-trailer combinations for 43 years, accumulating 430 million miles. He holds a Class F operator's license from South Carolina. His driving record for the last 3 years shows no crashes and one conviction for a moving violation in a CMV. He exceeded the speed limit by 13 mph.

Wingson Chang

Mr. Chang, 39, has had refractive amblyopia in his left eye since childhood. The best corrected visual acuity in his right eye is 20/20 and in his left eye, 20/60. Following an examination in 2010, his optometrist noted, “In my medical opinion, Mr. Chang has sufficient vision with both eyes working together to perform the driving tasks required to operate a commercial vehicle.” Mr. Chang reported that he has driven straight trucks for 21 years, accumulating 7.6 million miles. He holds a Class B CDL from New Jersey. His driving record for the last 3 years shows no crashes and no convictions for moving violations in a CMV.

Richard C. Dickinson

Mr. Dickinson, 55, has had amblyopia in his right eye since birth. The best corrected visual acuity in his right eye is 20/50 and in his left eye, 20/20. Following an examination in 2010, his optometrist noted, “This is to certify that, in my opinion, Richard C. Dickinson has sufficient vision to perform driving tasks required to operate a commercial vehicle.” Mr. Dickinson reported that he has driven straight trucks for 6 years, accumulating 30,000 miles and tractor-trailer combinations for 6 years accumulating 30,000 miles. He holds a Class B CDL from Georgia. His driving record for the last 3 years shows no crashes and no convictions for moving violations in a CMV.

Richard A. Guthrie

Mr. Guthrie, 52, has had a prosthetic left eye since childhood. The best corrected visual acuity in his right eye is 20/20. Following an examination in 2010, his optometrist noted, “In my opinion, Richard has sufficient vision to perform the driving tasks required to operate a commercial vehicle.” Mr. Guthrie reported that he has driven straight trucks for 15 years, accumulating 300,000 miles and tractor-trailer combinations for 20 years accumulating 700,000 miles. He holds a Class D operator's license from Montana. His driving record for the last 3 years shows no crashes and no convictions for moving violations in a CMV.

Kenneth L. Handy

Mr. Handy, 68, has had nuclear sclerosis cataract and amblyopia in his right eye since childhood. The best corrected visual acuity in his right eye is 20/250 and in his left eye, 20/20. Following an examination in 2010, his ophthalmologist noted, “I believe he has sufficient vision to perform driving tasks required to operate a commercial vehicle.” Mr. Handy reported that he has driven straight trucks for 8 years, accumulating 200,000 miles. He holds a Class B CDL from Iowa. His driving record for the last 3 years shows no crashes and no convictions for moving violations in a CMV.

Thomas J. Ivins

Mr. Ivins, 53, has had central serous retinopathy in his left eye since 2004. The best corrected visual acuity in his right eye is 20/20 and in his left eye, 20/100. Following an examination in 2010, his optometrist noted, “In my opinion, Mr. Ivins has sufficient vision to perform the tasks required to safely operate a commercial vehicle.” Mr. Ivins reported that he has driven straight trucks for 5 years, accumulating 312,500 miles and tractor-trailer combinations for 28 years accumulating 5 million miles. He holds a Class A CDL from Florida. His driving record for the last 3 years shows no crashes and one conviction for a moving violation in a CMV. He exceeded the speed limit by 9 mph.

Byron K. Lavender

Mr. Lavender, 44, has had ambloypia in his right eye since childhood. The best corrected visual acuity in his right eye is 20/100 and in his left eye, 20/15. Following an examination in 2010, his optometrist noted, “In my opinion, Bryon has sufficient vision to perform the driving tasks required to operate a commercial vehicle.” Mr. Lavender reported that he has driven straight trucks for 20 years, accumulating 800,000 miles. He holds a Class B CDL from Ohio. His driving record for the last 3 years shows no crashes and no convictions for moving violations in a CMV.

Victor M. McCants

Mr. McCants, 43, has had macular drusen in his right eye since 1997. The visual acuity in his right eye is 20/50 and in his left eye, 20/20. Following an examination in 2010, his optometrist noted, “With 20/20 vision obtained without any glasses and 140 degrees peripheral vision, I feel he should not have any trouble driving a commercial vehicle.” Mr. McCants reported that he has driven tractor-trailer combinations for 17 years, accumulating 816,000 miles. He holds a Class A CDL from Alabama. His driving record for the last 3 years shows no crashes and no convictions for moving violations in a CMV.

William K. Otwell

Mr. Otwell, 47, has had complete loss of vision in his right eye since childhood. The best corrected visual acuity in his right eye is light perception and in his left eye, 20/20. Following an examination in 2010, his optometrist noted, “I feel that his vision is adequate to operate a commercial vehicle.” Mr. Otwell reported that he has driven straight trucks for 16 years, accumulating 720,000 miles. He holds a Class B CDL from Louisiana. His driving record for the last 3 years shows no crashes and no convictions for moving violations in a CMV.

Donald R. Pointer

Mr. Pointer, 32, has had a prosthetic left eye since childhood. The visual acuity in his right eye is 20/20. Following an examination in 2010, his optometrist noted, “It is my medical opinion that Mr. Pointer has sufficient vision to perform the driving tasks required to operate a commercial vehicle.” Mr. Pointer reported that he has driven straight trucks for 5 years, accumulating 13,000 miles. He holds a Class A CDL from Colorado. His driving record for the last 3 years shows no crashes and no convictions for moving violations in a CMV.

Steve A. Reece

Mr. Reece, 48, has had a retinal detachment in his left eye due to an injury sustained in 1991. The best corrected visual acuity in his right eye is 20/20 and in his left eye, 20/200. Following an examination in 2010, his ophthalmologist noted, “I feel that his vision should be sufficient to perform the driving tasks he has been doing for the past 19 years.” Mr. Reece reported that he has driven straight trucks for 25 years, accumulating 200,000 miles and tractor-trailer combinations for 21 years accumulating 1 million miles. He holds a Class A CDL from Missouri. His driving record for the last 3 years shows no crashes and no convictions for moving violations in a CMV.

Thomas S. Roth

Mr. Roth, 50, has had a prosthetic right eye since childhood. The visual acuity in his right eye is hand motion and in his left eye, 20/20. Following an examination in 2010, his optometrist noted, “In my medical opinion and the guidelines set by the State of Pennsylvania, Mr. Roth has sufficient vision to perform the drivers tasks required to operate a commercial vehicle.” Mr. Roth reported that he has driven straight trucks for 27 years, accumulating 405,000 miles and tractor-trailer combinations for 24 years accumulating 120,000 miles. He holds a Class A CDL from Delaware. His driving record for the last 3 years shows no crashes and no convictions for moving violations in a CMV.

Mark A. Steckmyer

Mr. Steckmyer, 47, has had optic atrophy secondary to optic neuritis in his left eye since 1984. The visual acuity in his right eye is 20/20 and in his left eye, count- finger vision. Following an examination in 2010, his optometrist noted, “He has sufficient vision to perform driving tasks required to operate a commercial vehicle due to the stable and longstanding nature of his injury.” Mr. Steckmyer reported that he has driven straight trucks for 8 years, accumulating 70,200 miles. He holds a Class B CDL from Kentucky. His driving record for the last 3 years shows no crashes and no convictions for moving violations in a CMV.

James M. Tennyson

Mr. Tennyson, 60, has had Kerataconus and a failed corneal graft in his left eye since birth. The best corrected visual acuity in his right eye is 20/25 and in his left eye, hand motion. Following an examination in 2010, his ophthalmologist noted, “I feel in my professional opinion that with his visual acuity he will be able to operate a commercial vehicle.” Mr. Tennyson reported that he has driven straight trucks for 44 years, accumulating 528,000 miles. He holds a Class C operator's license from Maryland. His driving record for the last 3 years shows no crashes and no convictions for moving violations in a CMV.

Request for Comments

In accordance with 49 U.S.C. 31136(e) and 31315, FMCSA requests public comment from all interested persons on the exemption petitions described in this notice. The Agency will consider all comments received before the close of business February 9, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: December 29, 2010.
Larry W. Minor,
Associate Administration, Office of Policy.

[FR Doc. 2011-245 Filed 1-7-11; 8:45 am]

BILLING CODE 4910-EX-P